ENVIRONMENTAL PROTECTION AGENCY

[FRL-7923-9]

Proposed Agreement Pursuant to Section 122(a) and (h)(1) of the Comprehensive Environmental Response, Compensation, and Liability Act (CERCLA) for the Lakeshore East/Family Golf Course OU5

AGENCY: Environmental Protection Agency (“EPA”).

ACTION: Notice and request for public comment on proposed CERCLA 122(a) and (h)(1) agreement with six former owners and four current owners regarding a voluntary removal action to address radioactively contaminated soils site in Chicago, Illinois.

SUMMARY: In accordance with section 122(i)(1) of CERCLA, notification is hereby given of a proposed administrative settlement agreement regarding a removal action at the site of the former Family Golf Course in Chicago, Illinois. EPA proposes to enter into this agreement under the authority of sections 122(a) and (h) of CERCLA. The proposed agreement has been executed by Illinois Center Plaza Venture, LaSalle Bank National Association as successor Trustee to American National Bank and Trust Company of Chicago (trust numbers 46968, 56375, 45251, 45250, 115883-08), Pepsi Americas, Inc., Mid-America Improvement Corporation, Illinois Center Corporation, Metropolitan Structures, Lakeshore East, LLC, Lakeshore Links, LLC, Lakeshore East Parcel P, LLC, and Lakeshore East Development Group, Ltd. (“Settling Parties”). Under the proposed agreement, the Settling Parties will pay $71,256.08 (past costs) into a special account. EPA incurred these past response costs in investigating the release of hazardous substances at the site, reviewing and approving the Settling Parties' Work Plan for Investigation and Removal of Radiologically Impacted Soil, and negotiating a resolution of the case. For thirty days following the date of publication of this notice, the EPA will receive written comments relating to this proposed agreement. EPA will consider all comments received and may decide not to enter into this agreement if comments disclose facts or considerations which indicate that the agreement is inappropriate, improper or inadequate.

DATES: Comments on the proposed agreement must be received by EPA on or before July 14, 2005.

ADDRESSES: Comments should be addressed to the Docket Clerk, U.S. Environmental Protection Agency, Region 5, 77 West Jackson Boulevard, Chicago, Illinois 60604-3590, and should refer to: In the Matter of Lakeshore East/Family Golf Course OU5, EPA Docket No. V-W-05-C-817.

FOR FURTHER INFORMATION CONTACT: Cathleen R. Martwick, U.S. Environmental Protection Agency, Office of Regional Counsel, C-14J, 77 West Jackson Boulevard, Chicago, Illinois 60604-3590, (312) 886-7166 or Mary Fulghum, U.S. Environmental Protection Agency, Office of Regional Counsel, C-14J, 77 West Jackson Boulevard, Chicago, Illinois 60604-3590, (312) 886-4683. A copy of the proposed administrative settlement agreement may be obtained in person or by mail from the EPA's Region 5 Office of Regional Counsel, 77 West Jackson Boulevard, Chicago, Illinois 60604-3590. Additional background information relating to the settlement is available for review at the EPA's Region 5 Office of Regional Counsel.

Authority: The Comprehensive Environmental Response, Compensation, and Liability Act, as amended, 42 U.S.C. 9601-9675.

Douglas Ballotti,
Acting Director, Superfund Division, Region 5.

[FR Doc. 05-11661 Filed 6-13-05; 8:45 am]

BILLING CODE 6560-50-P